DEPARTMENT OF THE INTERIOR

National Park Service

[NPS-WASO-NRNHL-DTS#-31446; PPWOCRADI0, PCU00RP14.R50000]

National Register of Historic Places; Notification of Pending Nominations and Related Actions

AGENCY: National Park Service, Interior.

ACTION: Notice.

SUMMARY: The National Park Service is soliciting electronic comments on the significance of properties nominated before January 30, 2021, for listing or related actions in the National Register of Historic Places.

DATES: Comments should be submitted electronically by February 25, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before January 30, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Denver County

CB&Q Denver Shops Powerhouse (Railroads in Colorado, 1858-1948 MPS) 5151 Bannock St., Denver, MP100006230

ILLINOIS

Cook County

Charles Warrington Earle School, 6121 South Hermitage Ave., Chicago, SG100006227

IOWA

Madison County

Winterset City Park Historic District, South 9th St. at East South St., Winterset, SG100006220

Monona County

South Jordan Cemetery, 33928 260th St., Moorhead vicinity, SG100006221

Polk County

Iowa Ford Tractor Company Repair and Warehouse Building, 213 13th Street, Des Moines, SG100006262

MINNESOTA

Hennepin County

Minnetonka Town Hall, 13231 Minnetonka Dr., Minnetonka, 86003815

MONTANA

Sanders County

Paradise School, 2 Schoolhouse Hill Rd., Paradise, SG100006231

NEW YORK

Allegany County

Pink House, The, 193 West State St., Wellsville, SG100006214

Essex County

Tahawus Masonic Lodge, 14234 Main St., Au Sable Forks, SG100006216

Franklin County

Malone Downtown Historic District, Roughly bounded by Brewster, Main, Church, and Elm Sts., and Wheeler Ave., Malone, SG100006217

New York County

The Church of the Heavenly Rest and the Chapel of the Beloved Disciple, 1085 5th Ave., New York, SG100006215

Row Houses at 854-858 West End Avenue and 254 West 102nd Street, 854-858 West End Ave. and 254 West 102nd St., New York, SG100006218

Ulster County

AME Zion Church of Kingston and Mt. Zion Cemetery, 26 Franklin St. and 190 South Wall St., Kingston, SG100006224

OHIO

Franklin County

Ford Motor Company Columbus Branch Assembly Plant, 427 Cleveland Ave., Columbus, SG100006229

Marion County

Temple and Masonic Block Buildings, 107, 109, 111, and 127 East Marion St., Caledonia, SG100006261

TEXAS

Dallas County

Braniff International Hostess College, 2801 Wycliff Ave., Dallas, SG100006219

UTAH

Salt Lake County

Los Gables Apartments (Salt Lake City MPS) 125 South and 135 South 300 East, Salt Lake City, MP100006232

VERMONT

Rutland County

Green Mountain Cottage, 61 Church St., Mount Holly, SG100006222

Additional documentation has been received for the following resources:

ARKANSAS

Conway County

Morrilton Commercial Historic District (Additional Documentation) Roughly bounded by East Railroad Ave., East Broadway, North Division, and North Moose Sts., Morrilton, AD03000085

Faulkner County

Robinson Historic District (Additional Documentation) Roughly bounded by Cross, Prince, Faulkner, and Watkins Sts., and Robinson Ave., Conway, AD00001645

Authority: Section 60.13 of 36 CFR part 60.

Dated: February 2, 2021.
Sherry A. Frear,
Chief, National Register of Historic Places/National Historic Landmarks Program.

[FR Doc. 2021-02694 Filed 2-9-21; 8:45 am]

BILLING CODE 4312-52-P